DEPARTMENT OF DEFENSE

Office of the Secretary

[Transmittal No. 23-20]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-20, Policy Justification, and Sensitivity of Technology.

Dated: September 24, 2024.
Aaron T. Siegel,
Alternate OSD Federal Register Liaison Officer, Department of Defense.

BILLING CODE 6001-FR-P

BILLING CODE 6001-FR-C

Transmittal No. 23-20

Notice of Proposed Issuance of Letter of Offer Pursuant to Section 36(b)(1) of the Arms Export Control Act, as amended

(i) Prospective Purchaser: Government of the Czech Republic

(ii) Total Estimated Value:

Magic Defense Equipment * | $350 million
Other | $300 million
TOTAL | $650 million

Funding Source: National Funds

(iii) Description and Quantity or Quantities of Articles or Services under Consideration for Purchase: The Government of Czech Republic has requested to buy equipment and services to refurbish six (6) AH-1Z and two (2) UH-1Y Excess Defense Article (EDA) helicopters. This equipment and services will include:

Major Defense Equipment (MDE):

Twenty-two (22) T-700 GE 401C Engines (16 installed, 6 spares)

Fourteen (14) Honeywell Embedded Global Positioning System Inertial Navigation Systems (EGIs) w/Precise Positioning Service (PPS) (8 installed, 6 spares)

Four (4) M240 Machine Guns

Twenty-four (24) ARC-210 COMSEC Radios

Non-MDE:

Also included is communication equipment; electronic warfare systems; support equipment; spare engine containers; flight training devices; Composite Maintenance trainer; spare and repair parts; tools and test equipment; U.S. Government and contractor engineering, technical, and logistics support services; and other related elements of logistics and program support.

(iv) Military Department: Navy (EZ-P-SBI)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: May 3, 2023

*As defined in Section 47(6) of the Arms Export Control Act.

POLICY JUSTIFICATION

Czech Republic—AH-1Z and UH-1Y Refurbishment/Modernization

The Government of the Czech Republic has requested to buy equipment and services to refurbish six (6) AH-1Z and two (2) UH-1Y Excess Defense Article (EDA) helicopters. This equipment and services will include: twenty-two (22) T-700 GE 401C engines (16 installed, 6 spares); fourteen (14) Honeywell Embedded Global Positioning System Inertial Navigation Systems (EGIs) w/Precise Positioning Service (PPS) (8 installed, 6 spares); four (4) M240 machine guns; and twenty-four (24) ARC-210 COMSEC radios. Also included is communication equipment; electronic warfare systems; support equipment; spare engine containers; flight training devices; Composite Maintenance trainer; spare and repair parts; tools and test equipment; U.S. Government and contractor engineering, technical, and logistics support services; and other related elements of logistics and program support. The estimated total cost is $650 million.

This proposed sale will support the foreign policy and national security of the United States by helping to improve the security of a NATO partner that is an important force for ensuring peace and stability in Europe.

The proposed sale will improve the Czech Republic's ability to develop and maintain a strong and ready self-defense capability. The Czech Republic will have no difficulty absorbing these defense articles and services into its armed forces.

The proposed sale of this equipment and services will not alter the basic military balance in the region.

The principal contractors will be Bell Helicopter, Textron, Fort Worth, TX, and General Electric Company, Lynn, MA. There are no known offset agreements proposed in connection with this potential sale.

Implementation of the proposed sale will require multiple trips by U.S. Government and contractor representatives to participate in program and technical reviews plus training and maintenance support in-country, on a temporary basis, for a period of sixty (60) months. It will also require three (3) contractor representatives to reside-in country for a period of two (2) years to support this program.

There will be no adverse impact on U.S. defense readiness as a result of this proposed sale.

Transmittal No. 23-20

Notice of Proposed Issuance of Letter of Offer Pursuant to Section 36(b)(1) of the Arms Export Control Act

Annex

Item No. vii

(vii) Sensitivity of Technology:

1. The AH-1Z and UH-1Y helicopter model have an integrated avionics system (IAS) which includes two (2) mission computers and an automatic flight control system. Each crew station has two (2) 8x6-inch multifunction liquid crystal displays (LCD) and one (1) 4.2x4.2-inch dual function LCD display. The communications suite will have COMSEC ARC 210 Ultra High Frequency/Very High Frequency (UHF/VHF) radios with associated communications equipment. The navigation suite includes a Precise Positioning Systems (PPS), Honeywell Embedded GPS Inertial Navigation System (EGI) (SAASM or upgraded equivalent), a digital map system, and a low-aspired air data subsystem, which allows weapons delivery when hovering.

2. The crew is equipped with the Optimized Top Owl (OTO) helmet-mounted sight and display system. The OTO has a Day Display Module (DDM) and a Night Display Module (NDM). The H-1 has survivability equipment including the AN/AAR-47 Missile Warning and Laser Detection System, AN/ALE-47 Counter Measure Dispensing System (CMDS) and the AN/APR-39 Radar Warning Receiver (RWR) to cover countermeasure dispensers, radar warning, incoming/on-way missile warning and on-fuselage laser-spot warning systems.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that the Czech Republic can provide substantially the same degree of protection for the sensitive technology being released as the U.S. Government. This sale is necessary in furtherance of the U.S. foreign policy and national security objectives outlined in the Policy Justification.

6. All defense articles and services listed in this transmittal have been authorized for release and export to the Government of the Czech Republic.

[FR Doc. 2024-22237 Filed 9-26-24; 8:45 am]

BILLING CODE 6001-FR-P